SOCIAL SECURITY ADMINISTRATION

Finding Regarding Foreign Social Insurance or Pension System of the Republic of Lithuania

AGENCY: Social Security Administration.

ACTION: Notice of finding regarding foreign social insurance or pension system of the Republic of Lithuania.

Finding: Section 202(t)(1) of the Social Security Act (42 U.S.C. 402(t)(1)) generally prohibits payment of monthly benefits to any individual who is not a United States (U.S.) citizen or national for any month after he or she has been outside the United States for more than six consecutive months. This prohibition does not apply to such an individual where one of the exceptions described in section 202(t)(2) through 202(t)(5) of the Social Security Act (42 U.S.C. 402(t)(2) through 402(t)(5)) affects his or her case.

Section 202(t)(2) of the Social Security Act provides that, subject to certain residency requirements of Section 202(t)(11), the prohibition against payment shall not apply to any individual who is a citizen of a country which the Commissioner of Social Security finds has in effect a social insurance or pension system which is of general application in such country and which:

(a) Pays periodic benefits, or the actuarial equivalent thereof, on account of old age, retirement, or death; and

(b) Permits individuals who are U.S. citizens, but not citizens of such country, and who qualify for such benefits to receive those benefits, or the actuarial equivalent thereof, while outside the foreign country, regardless of the duration of the absence.

The Commissioner of Social Security has approved a finding that Lithuania, beginning January 17, 2003, has a social insurance system of general application which:

(a) Pays periodic benefits, or the actuarial equivalent thereof, on account of old age, retirement, or death; and

(b) Permits U.S. citizens who are not citizens of Lithuania, and who qualify for the relevant benefits, to receive such benefits, or their actuarial equivalent, without qualification or restriction, while outside of Lithuania, regardless of the duration of the absence of these individuals from Lithuania.

Accordingly, it is hereby determined and found that Lithuania has in effect, beginning, January 17, 2003, a social insurance system which meets the requirements of section 202(t)(2) of the Social Security Act (42 U.S.C. 402(t)(2)).

Although the United States did not recognize the forced incorporation of Lithuania and the other Baltic countries into the Union of Soviet Socialist Republics (U.S.S.R.), the Soviet Union occupied these territories and enforced its laws there. Thus, prior to formal recognition of its independence by the United States in September 1991, Lithuania was considered part of the U.S.S.R. for U.S. Social Security purposes. It was found on August 21, 1970, that the social insurance system of the U.S.S.R., (including Estonia, Latvia and Lithuania), met the requirements of section 202(t)(2)(a), but not (b) of the Act, and this finding was published in the Federal Register on September 3, 1970 (35 FR 14021). Thus, U.S. Social Security benefits were not paid based on citizenship in Lithuania (nor were they paid based on citizenship in the U.S.S.R.).

For the period September 1991 through December 1994, the law governing old-age and survivors pensions in Lithuania remained the same as the former Soviet system, except for administrative changes involving funding/management of the budget and employer/employee contributions. On January 1, 1995, the Lithuanian Law on State Social Insurance Pensions of July 18, 1994, took effect.

On December 11, 1996, SSA made a determination that Lithuania's social insurance system met part (a) but not part (b) of section 202(t)(2) of the Act. This determination was effective September 1, 1991, the month the United States publicly recognized Lithuania as an independent nation.

However, effective January 17, 2003, the Republic of Lithuania has committed to provide for the payment of benefits, without restriction, to citizens of the United States who are otherwise qualified, but who are outside the paying country, without regard to the length of absence. The Republic of Lithuania also assures that claims for benefits may be filed from outside the paying country, that payment will be made for retirement or old age benefits, as well as for survivors' benefits, and that the benefits will be calculated using the same formula used for citizens of the paying country. Lithuania further assures that, if benefits are paid in Lithuanian currency, that currency is fully convertible into U.S. dollars.

FOR FURTHER INFORMATION CONTACT: Jerry Hibbitts, Room 1104, West High Rise Building, P.O. Box 17741, 6401 Security Boulevard, Baltimore, MD 21235, (410) 965-3451.

(Catalog of Federal Domestic Assistance: Program Nos. 96.001 Social Security—Disability Insurance; 96.002 Social Security—Retirement Insurance; 96.004 Social Security—Survivors Insurance)
Dated: July 1, 2004.
Jo Anne B. Barnhart,
Commissioner, Social Security Administration.

[FR Doc. 04-15611 Filed 7-8-04; 8:45 am]

BILLING CODE 4191-02-P